DEPARTMENT OF COMMERCE

International Trade Administration

[A-427-801, A-428-801, A-475-801, A-401-801, A-412-801]

Antifriction Bearings (Other Than Tapered Roller Bearings) and Parts Thereof From France, Germany, Italy, Sweden, and the United Kingdom; Amended Final Results of Antidumping Duty Administrative Reviews

AGENCY: Import Administration, International Trade Administration, Department of Commerce.

ACTION: Notice of amended final results of antidumping duty administrative reviews.

SUMMARY: On April 26, 2004, and May 4, 2004, the United States Court of Appeals for the Federal Circuit dismissed appeals and lifted the stay of proceedings against the United States Court of International Trade's affirmations of the Department of Commerce's final remand results affecting final assessment rates for the administrative reviews of the antidumping duty orders on antifriction bearings (other than tapered roller bearings) and parts thereof from Italy, Sweden, and the United Kingdom for the period of review May 1, 1995, through April 30, 1996, and from France, Germany, Italy, and Sweden for the period of review May 1, 1997, through April 30, 1998, respectively. The classes or kinds of merchandise covered by these reviews are ball bearings and parts thereof, cylindrical roller bearings and parts thereof, and spherical plain bearings and parts thereof. As there are now final and conclusive court decisions in these actions, we are amending our final results of reviews and we will instruct U.S. Customs and Border Protection to liquidate entries subject to these reviews.

EFFECTIVE DATE: October 22, 2004.

FOR FURTHER INFORMATION CONTACT: Yang Jin Chun or Richard Rimlinger, AD/CVD Operations, Office 5, Import Administration, U.S. Department of Commerce, 14th Street and Constitution Avenue, NW, Washington, DC 20230; telephone: (202) 482-5760 or (202) 482-4477, respectively.

SUPPLEMENTARY INFORMATION:

Background

On October 17, 1997, the Department of Commerce (the Department) published Antifriction Bearings (Other Than Tapered Roller Bearings) and Parts Thereof from France, Germany, Italy, Japan, Romania, Singapore, Sweden, and the United Kingdom: Final Results of Antidumping Duty Administrative Reviews, 62 FR 54043, as amended by Antifriction Bearings (Other Than Tapered Roller Bearings) and Parts Thereof from France, Germany, Italy, Japan, Romania, Singapore, Sweden, and the United Kingdom: Amended Final Results of Antidumping Duty Administrative Review, 62 FR 61963 (November 20, 1997) (collectively AFBs 7), which covered the period of review (POR) May 1, 1995, through April 30, 1996. On July 1, 1999, the Department published Antifriction Bearings (Other Than Tapered Roller Bearings) and Parts Thereof from France, Germany, Italy, Japan, Romania, Sweden, and the United Kingdom: Final Results of Antidumping Duty Administrative Reviews, 64 FR 35590, as amended by Antifriction Bearings (Other Than Tapered Roller Bearings) and Parts Thereof from Italy and Japan: Notice of Amended Final Results of Antidumping Duty Administrative Reviews, 64 FR 47764 (September 1, 1999) (collectively AFBs 9), which covered the POR May 1, 1997, through April 30, 1998. The classes or kinds of merchandise covered by these reviews are ball bearings and parts thereof (BBs), cylindrical roller bearings and parts thereof (CRBs), and spherical plain bearings and parts thereof (SPBs).

In FAG Italia S.p.A. v. United States, 24 CIT 587 (2000) (FAG), SKF USA Inc. and SKF Sverige AB v. United States, 24 CIT 349 (2000) (SKF), RHP Bearings Ltd. v. United States, 110 F. Supp. 2d 1043 (CIT 2000) (RHP I), and RHP Bearings Ltd. v. United States, 132 F. Supp. 2d 1097 (CIT 2001) (RHP II), the United States Court of International Trade (CIT) ordered remands for AFBs 7. In SKF USA Inc., SKF France S.A. and Sarma v. United States, 116 F. Supp. 2d 1257 (CIT 2000) (SKF France), SKF USA Inc. and SKF GmbH v. United States, 94 F. Supp. 2d 1351 (CIT 2000) (SKF Germany), SKF USA Inc. and SKF Industrie S.p.A. v. United States, 24 CIT 583 (2000) (SKF Italy), and SKF USA Inc. and SKF Sverige AB v. United States, 24 CIT 836 (2000) (SKF Sweden), the CIT ordered remands for AFBs 9.

As there are now final and conclusive court decisions with respect to companies affected by these remand orders directly, we are amending our final results of review for these companies and we will subsequently instruct U.S. Customs and Border Protection (CBP) to liquidate the relevant entries subject to these reviews.

1. Remands for AFBs 7

a. FAG

In FAG, the CIT remanded AFBs 7 to the Department to address the following instructions: (1) annul all findings and conclusions made pursuant to the duty-absorption inquiry conducted for the subject reviews and (2) attempt to match U.S. sales to non-identical but similar home-market sales before resorting to constructed value when sales of identical merchandise have been found to be outside the ordinary course of trade. This remand affected FAG Italia S.p.A. and FAG Bearings Corporation (collectively FAG Italy) and SKF Industrie, RIV-SKF Officina de Villar Perosa, SKF Cuscinetti Specialti, SKF Cuscinetti, and RFT (collectively SKF Italy) directly with respect to the antidumping duty order on BBs from Italy for the POR May 1, 1995, through April 30, 1996.

On October 11, 2000, the Department filed its Remand Results with the CIT. On May 24, 2002, the U.S. Court of Appeals for the Federal Circuit (CAFC) remanded for further explanation the Department's use of different definitions of “foreign like product” in its normal value calculations; the CAFC affirmed the CIT's decision with respect to duty absorption. See FAG Italia S.p.A. v. United States, 291 F.3d 806 (CAFC 2002). On November 7, 2002, the Department filed its second remand determination explaining the definitions of “foreign like product” used in calculating normal value. On January 30, 2003, the CIT affirmed the remand results in their entirety. See FAG Italia S.p.A. v. United States, Consol. No. 97-11-01984, slip op. 03-12 (CIT 2003). FAG Italy and SKF Italy appealed the CIT's remand affirmation but later filed with the CAFC motions to sever and dismiss their appeals voluntarily. On February 17, 2004, the CAFC granted FAG Italy's unopposed motion to dismiss. On April 26, 2004, the CAFC granted SKF Italy's unopposed motion to dismiss and lifted the stay of proceedings.

b. SKF

In SKF, the CIT remanded AFBs 7 to the Department to annul all findings and conclusions made pursuant to the duty-absorption inquiry conducted for the subject review. This remand affected SKF USA Inc. and SKF Sverige AB (collectively SKF Sweden) directly with respect to the antidumping duty order on BBs from Sweden for the POR May 1, 1995, through April 30, 1996.

On August 23, 2000, the Department filed its Remand Results with the CIT. On November 17, 2000, the CIT affirmed the Department's Remand Results in their entirety. See SKF USA, Inc. and SKF Sverige AB v. United States, 24 CIT 1310 (2000). SKF Sweden and the United States appealed the CIT's remand affirmation but later filed with the CAFC motions to sever and dismiss their appeals voluntarily. On April 26, 2004, the CAFC granted the United States' and SKF Sweden's unopposed motions to dismiss and lifted the stay of proceedings.

c. RHP I and RHP II

In RHP I, the CIT remanded AFBs 7 to the Department to address the following instructions: (1) annul all findings and conclusions made pursuant to the duty-absorption inquiry conducted for the subject reviews; (2) attempt to match U.S. sales to non-identical but similar home-market sales before resorting to constructed value when sales of identical merchandise have been found to be outside the ordinary course of trade; and (3) recalculate Barden's dumping margin without regard to the results of the below-cost test. This remand affected the Barden Corporation (U.K.) Ltd., the Barden Corporation, and FAG Bearing Corporation (collectively Barden) and RHP Bearings Ltd., NSK Bearings Europe Ltd., and NSK Corporation (collectively NSK/RHP) directly with respect to the antidumping duty orders on BBs and CRBs from the United Kingdom for the POR May 1, 1995, through April 30, 1996.

On October 20, 2000, the Department filed its Remand Results with the CIT. On February 23, 2001, the CIT in RHP II affirmed the Department's Remand Results partially and remanded AFBs 7 to the Department again with a new order to clarify the reasons behind its decision to conduct the below-cost test and to take any further action that it deems appropriate. On May 18, 2001, the Department filed its Remand Results with the CIT pursuant to the remand order in RHP II. On August 20, 2001, the CIT affirmed the Department's Remand Results in their entirety. See RHP Bearings Ltd. v. United States, Consol. No. 97-11-01983, slip op. 01-106 (CIT 2001). Barden, NSK/RHP, Timken US Corporation (Timken), and the United States appealed the CIT's remand affirmation but later filed with the CAFC motions to sever and dismiss their appeals voluntarily. On February 17, 2004, the CAFC granted Barden's, NSK/RHP's, and Timken's motions to dismiss. On April 26, 2004, the CAFC granted the United States' motion to dismiss and lifted the stay of proceedings.

2. Remands for AFBs 9

In SKF France, SKF Germany, SKF Italy, and SKF Sweden, the CIT remanded AFBs 9 to the Department to annul all findings and conclusions made pursuant to the duty-absorption inquiry conducted for the subject reviews. These four remand orders affected, in the respective order, SKF Compagnie d'Applications Mecaniques, S.A. (Clamart), ADR, and SARMA (collectively SKF France), SKF GmbH, SKF Service GmbH, and Steyr Walzlager (collectively SKF Germany), SKF Italy, and SKF Sweden directly with respect to the antidumping duty orders on antifriction bearings and parts thereof from France, Germany, Italy, and Sweden for the POR May 1, 1997, through April 30, 1998.

The Department filed its Remand Results for SKF France and SKF Sweden on November 22, 2000, SKF Germany on June 20, 2000, and SKF Italy on October 10, 2000, with the CIT. The CIT affirmed the Department's Remand Results for SKF France¹ and SKF Sweden² on January 30, 2001, SKF Germany³ on August 18, 2000, and SKF Italy⁴ on December 15, 2000, in their entirety.

¹ SKF USA Inc., SKF France S.A. and Sarma v. United States, No. 99-08-00475, slip op. 01-12 (CIT 2001).

² SKF USA Inc. and SKF Sverige AB v. United States, No 99-08-00470, slip op. 01-11 (CIT 2001).

³ SKF USA Inc. and SKF GmbH v. United States, 126 F. Supp. 2d. 567 (CIT 2000).

⁴ SKF USA Inc. and SKF Industrie S.p.A. v. United States, 24 CIT 1393 (2000).

The CIT's remand affirmations in SKF France, SKF Germany, SKF Italy, and SKF Sweden were appealed by the plaintiffs, i.e., SKF France, SKF Germany, SKF Italy, and SKF Sweden, respectively. Timken and the United States appealed in all four cases. All parties later filed with the CAFC motions to sever and dismiss their appeals voluntarily. On February 17, 2004, the CAFC granted SKF France's, SKF Italy's, SKF Sweden's, and Timken's motions to dismiss appeals in SKF France, SKF Italy, and SKF Sweden. On February 18, 2004, the CAFC granted SKF Germany's and Timken's motions to dismiss appeals in SKF Germany. On April 26, 2004, the CAFC granted the United States' motion to dismiss appeals in all four cases and lifted the stay of proceedings.

Assessment of Duties

The remands for AFBs 7 had no effect on weighted-average margins or duty-assessment rates for FAG Italy, SKF Italy, SKF Sweden, Barden, and NSK/RHP. The remands for AFBs 9 had no effect on weighted-average margins or duty-assessment rates for SKF France, SKF Germany, SKF Italy, and SKF Sweden.

Accordingly, the Department will determine and CBP will assess appropriate antidumping duties on entries of the subject merchandise produced by the affected companies. Individual differences between U.S. price and foreign market value may vary from the percentages published. The Department has disclosed or will disclose assessment instructions to the parties in advance. The Department will issue assessment instructions to CBP within 15 days of publication of these amended final results of reviews.

The CIT remanded AFBs 7 and AFBs 9 to the Department to annul all findings and conclusions made pursuant to the duty-absorption inquiries it conducted in both segments of proceeding. The Department hereby complies with the remand as directed by the CIT and annuls all findings and conclusions made pursuant to its duty-absorption inquiries conducted for the subject reviews with respect to the following companies:

Segments | Country | Company | Class or Kind of Merchandise
AFBs 7 | Italy | FAG Italy | BBs
|  | SKF Italy | BBs
| Sweden | SKF Sweden | BBs
| United Kingdom | Barden | BBs
|  | NSK/RHP | BBs, CRBs
AFBs 9 | France | SKF France | BBs
| Germany | SKF Germany | BBs, CRBs, SPBs
| Italy | SKF Italy | BBs
| Sweden | SKF Sweden | BBs, CRBs

We are issuing and publishing these determinations in accordance with sections 751(a)(1) and 777(i)(1) of the Tariff Act of 1930, as amended.

Dated: October 15, 2004.
James J. Jochum,
Assistant Secretary for Import Administration.

[FR Doc. 04-23719 Filed 10-21-04; 8:45 am]

BILLING CODE 3510-DS-S